OFFICE OF PERSONNEL MANAGEMENT

45 CFR Part 800

RIN 3206-AM47

Patient Protection and Affordable Care Act; Establishment of the Multi-State Plan Program for the Affordable Insurance Exchanges; Correction

AGENCY: U.S. Office of Personnel Management.

ACTION: Final rule; correction.

SUMMARY: This document corrects the effective date that appeared in the final rule published in the Federal Register on March 11, 2013, entitled “Patient Protection and Affordable Care Act; Establishment of the Multi-State Plan Program for the Affordable Insurance Exchanges.”

DATES: Effective on May 2, 2013, the effective date of the final rule published March 11, 2013 (78 FR 15560) and the final rule correction published March 26, 2013 (78 FR 18246) is corrected to May 13, 2013.

FOR FURTHER INFORMATION CONTACT: Julia Elam by telephone at (202) 606-2128, by FAX at (202) 606-0033, or by email at mspp@opm.gov.

SUPPLEMENTARY INFORMATION: In FR Doc. 2013-04954 appearing on page 15560 in the Federal Register of March 11, 2013, the effective date should be revised to May 13, 2013. In the Federal Register of March 26, 2013, in FR Doc. 2013-06782, OPM published corrections to this final rule. The effective date of those corrections should also be revised to May 13, 2013.

In FR Doc. 2013-04954 appearing on page 15560 in the Federal Register of Monday, March 11, 2013, and in FR Doc. 2013-06782 appearing on page 18246 in the Federal Register of Tuesday, March 26, 2013, the following corrections are made:

1. On page 15560, in the first column, the DATES section is corrected to read as follows:

DATES: Effective May 13, 2013, except for § 800.503. OPM will publish a document announcing the effective date of § 800.503 in the Federal Register.

2. On page 18246, in the first column, the DATES section is corrected to read as follows:

DATES: These corrections are effective May 13, 2013.

U.S. Office of Personnel Management.
Robert H. Shriver,
Assistant Director, National Healthcare Operations.

[FR Doc. 2013-10425 Filed 5-1-13; 8:45 am]

BILLING CODE 6325-64-P